DEPARTMENT OF AGRICULTURE

Forest Service

Information Collection; Foreign Travel Proposal

AGENCY: Forest Service, USDA.

ACTION: Notice; request for comment.

SUMMARY: In accordance with the Paperwork Reduction Act of 1995, the Forest Service is seeking comments from all interested individuals and organizations on the extension with revision of a currently approved information collection, Foreign Travel Proposal.

DATES: Comments must be received in writing on or before December 19, 2014 to be assured of consideration. Comments received after that date will be considered to the extent practicable.

ADDRESSES: Comments concerning this notice should be addressed to: USDA, Forest Service, Attn: Sandra Farber, International Programs Staff, P.O. Box 96090, Mail Stop 1127, Washington, DC 20090-6090.

Comments also may be submitted via facsimile to 540-659-4670, or by email to: sfarber@fs.fed.us.

Comments submitted in response to this notice may be made available to the public through relevant Web sites and upon request. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

The public may inspect comments received at One Thomas Circle NW., Suite 400, Washington, DC 20005, during normal business hours. Visitors are encouraged to call ahead to 202-644-4600 to facilitate entry to the building. The public may request an electronic copy of the draft supporting statement and/or any comments received be sent via return email. Requests should be emailed to sfarber@fs.fed.us.

FOR FURTHER INFORMATION CONTACT: Sandra Farber, U.S. Forest Service International Programs, 540-659-2973. Individuals who use telecommunication devices for the deaf (TDD) may call the Federal Relay Service (FRS) at 1-800-877-8339 twenty-four hours a day, every day of the year, including holidays.

SUPPLEMENTARY INFORMATION: Title: Foreign Travel Proposal.

OMB Number: 0596-216.

Expiration Date of Approval: 01/31/2015.

Type of Request: Extension with Revision of a Currently Approved Information Collection.

Abstract

Forest Service is seeking renewal of the OMB approval to collect information from private citizens (not Federal employees) traveling to foreign countries on behalf of the Agency. These private citizens are considered invitational travelers and can be volunteers or an individual intermittently in government service as an expert or consultant. Invitational travelers can be citizens of another country. The collection of this information is necessary to facilitate timely issuance of foreign travel authorizations, visas, and country clearances.

Federal Travel Regulations—part 301-10 covers transportation expenses for those whose air travel is financed by U.S. Government funds. USDA Departmental regulation, DM 2300-1, is the primary source of USDA policy on managing temporary duty travel for private citizens (not Federal employees) traveling to foreign countries on behalf of the Forest Service.

Information collected includes the traveler's destination, purpose of trip, and dates of travel. Also collected are name, address, contact telephone numbers, passport information, Country of citizenship (as required by the State Department), security clearance, as well as contacts information at each destination and hotel information. Federal Government employees provide date and place of birth and the last four digits of the social security number; non-US government employees do not have to provide their date of birth or the last four digits of their social security number. The last four digits of their social security number and date of birth are for passport requests only. The Forest Service does not obtain or issue official passports for invitational travelers.

Estimate of Burden per Response: 20 minutes.

Type of Respondents: U.S. Government invitees and/or contractors.

Estimated Annual Number of Respondents: 200 individuals.

Estimated Annual Number of Responses per Respondent: 1.

Estimated Total Annual Burden on Respondents: 67 hours.

Comment is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: October 9, 2014.
Valdis Mazainis,
Director, International Programs.

[FR Doc. 2014-24804 Filed 10-17-14; 8:45 am]

BILLING CODE 3411-15-P